OFFICE OF THE UNITED STATES TRADE REPRESENTATIVE

Trade Policy Staff Committee; Review of Guatemala's Beneficiary Status Under the Caribbean Basin Trade Partnership Act

AGENCY: Office of the United States Trade Representative.

ACTION: Request for comments in connection with review of Guatemala's beneficiary status under the Caribbean Basin Trade Partnership Act.

SUMMARY: The Trade Policy Staff Committee (TPSC) is conducting a review of Guatemala's status as a beneficiary country under the Caribbean Basin Trade Partnership Act (CBTPA). This review will focus on Guatemala's performance with respect to worker rights, based on the eligibility criteria established in the CBTPA and objectives identified to the Government of Guatemala in October 2000. The TPSC is requesting written comments from the public to assist in developing information regarding Guatemala's current performance in the area of worker rights.

DATES: Public comments should be received by noon, March 16, 2001.

ADDRESSES: Public comments should be submitted to: Gloria Blue, Executive Secretary, TPSC, Office of the USTR, 600 17th Street, NW., Washington, DC 20508 Attention: Guatemala CBTPA Review.

FOR FURTHER INFORMATION CONTACT: For procedural questions concerning public comments, contact Gloria Blue, Executive Secretary, TPSC, Office of the USTR, 600 17th Street, NW., Washington, DC 20508 (202) 395-3475. All other questions regarding the review should be addressed to Christopher Wilson, Director for Central America and the Caribbean, Office of the Western Hemisphere of the USTR (202) 395-5190.

SUPPLEMENTARY INFORMATION: On October 2, 2000, the President designated Guatemala as a CBTPA beneficiary country. This designation followed a review by the TPSC of Guatemala's adherence to the eligibility criteria established in the CBTPA, including (1) an evaluation of the extent to which Guatemala provides internationally recognized worker rights, including the right of association, the right to organize and bargain collectively, a prohibition on the use of any form of forced or compulsory labor, a minimum age for the employment of children, and acceptable conditions of work with respect to minimum wages, hours of work, and occupational safety and health, and (2) whether Guatemala has implemented its commitments to eliminate the worst forms of child labor.

The review of Guatemala's eligibility for the CBTPA preferences involved extensive consideration of the worker rights situation in that country. The United States raised specific concerns with respect to anti-union violence, labor law reform, the rights of association and collective bargaining, and other issues. Guatemalan officials were taking some steps to address these concerns. For example, the United States welcomed the Ministry of Labor's efforts to that date to facilitate a resolution to the situation arising from a 1999 incident involving violence against banana workers. The Guatemalan executive branch had also presented legislation to bring the country's labor laws into conformity with ILO recommendations.

On the basis of these actions and assurances, the TPSC in October recommended that the President designate Guatemala as a CBTPA beneficiary country. However, the United States indicated its concern that the overall worker rights environment in Guatemala represented a threat to those seeking to advance basic, internationally-recognized rights for workers. Instances of anti-union violence were cited. The widespread impunity for those who provoked and carried out such violence was a particularly serious concern.

Consequently, at the time Guatemala's CBTPA designation was announced, the U.S. Trade Representative also announced that Guatemala's CBTPA beneficiary country status would be reviewed in April 2001, with a focus on further improvements in the area of worker rights. This review will cover the following factors: (a) Actions taken by the Guatemalan executive branch, within its authority, to ensure the physical safety and human and civil rights of union leaders and the effective criminal prosecution of persons charged with provoking anti-union violence, including killings of union leaders; (b) steps taken by the Government of Guatemala to provide for the re-employment of the 900 banana workers that were fired in 1999 and settlement of related labor law violations; (c) progress towards enacting a new Labor Code; and (d) performance in labor law enforcement and judicial administration related to the protection of labor rights.

As a further indication of the seriousness with which the United States views these issues, the U.S. Trade Representative initiated a review of Guatemala's eligibility as a beneficiary developing country under the Generalized System of Preferences (GSP), also to be concluded in April 2001, and focusing on the government's response to anti-union violence and other aspects of internationally recognized worker rights. USTR requested public comments in connection with this review through a Federal Register notice dated January 10, 2001.

Written Comments

Persons submitting written comments should provide twenty (20) copies by the date and to the address specified above. If possible, comments should be submitted before this date. Where possible, please supplement written comments with a computer disk of the submission. The disk should have a label identifying the software used and the submitter.

Comments should provide information on the current situation for worker rights in Guatemala, focusing in particular on the factors in the review summarized above. Due to the overlapping nature of the CBTPA review process and the GSP review process, individuals and organizations which have submitted comments in connection with the GSP review are informed that those comments will also be considered in connection with the CBTPA review and do not need to be resubmitted.

Written comments submitted in connection with this request, except for information granted “business confidential” status pursuant to 15 CFR 2003.6, will be available for public inspection in the USTR Reading Room (Room 101) at the address noted above. An appointment to review the file may be made by calling Brenda Webb at (202) 395-6186. The Reading Room is open to the public from 10:00 a.m. to 12 noon, and from 1:00 p.m. to 4:00 p.m. Monday through Friday.

Business confidential information, including any information submitted on disks, will be subject to the requirements of 15 CFR 2003.6. If a submission contains business confidential information, twenty copies of a public version that does not contain confidential information must be submitted. A justification as to why the information contained in the submission should be treated confidentially must be included in the submission. In addition, any submissions containing business confidential information must be clearly marked “Confidential” at the top and bottom of the cover page (or letter) and each page where such information appears. The version that does not contain confidential information should also be clearly marked, at the top and bottom of each page, “public version” or “non-confidential.”

Carmen Suro-Bredie,
Chair, Trade Policy Staff Committee.

[FR Doc. 01-3758 Filed 2-13-01; 8:45 am]

BILLING CODE 3190-01-P